ENVIRONMENTAL PROTECTION AGENCY

[EPA-HQ-OPP-2007-0944; FRL-8156-3]

Petition Requesting EPA to Issue a Notice of Intent to Cancel the Registrations of M-44 Sodium Cyanide Capsules and Sodium Fluoroacetate

AGENCY: Environmental Protection Agency (EPA).

ACTION: Notice.

SUMMARY: EPA is seeking public comment on a January 24, 2007 petition and its addendums dated March 20, 2007 and July 27, 2007 from Sinapu, Public Employees for Environmental Responsibility (PEER), Beyond Pesticides, Forest Guardians, Predator Defense, Western Wildlife Conservancy, Sierra Club, The Rewilding Institute, Animal Defense League of Arizona, and Animal Welfare Institute, available in docket number EPA-HQ-OPP-2007-0944, requesting that the Agency issue a Notice of Intent to Cancel the registration of M-44 sodium cyanide capsules and sodium fluoroacetate (commonly known as “compound 1080”). The Petitioners request this action to obtain what they believe would be proper application of the safety standards of the Federal Insecticide, Fungicide, and Rodenticide Act (FIFRA). The petition, its addendums, and the sodium cyanide and sodium fluoroacetate reregistration eligibility decisions (REDs) are available in the electronic docket at http://www.regulations.gov in docket number EPA-HQ-OPP-2007-0944 or at http://www.epa.gov/pesticides/reregistration/status.htm.

DATES: Comments must be received on or before January 15, 2008.

ADDRESSES: Submit your comments, identified by docket identification (ID) number EPA-HQ-OPP-2007-0944, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

Instructions: Direct your comments to docket ID number EPA-HQ-OPP-2007-0944. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Joy Schnackenbeck, Special Review and Reregistration Division (7508P), Office of Pesticide Programs, Environmental Protection Agency, 1200 Pennsylvania Ave., NW., Washington, DC 20460-0001; telephone number: (703) 308-8072; fax number: (703) 308-8005; e-mail address: schnackenbeck.joy@epa.gov.

SUPPLEMENTARY INFORMATION:

I. General Information

A. Does this Action Apply to Me?

This action is directed to the public in general, and may be of interest to a wide range of stakeholders including: environmental, human health, and agricultural advocates; the chemical industry, pesticide users, and members of the public interested in the sale, distribution, or the use of pesticides. Since others also may be interested, the Agency has not attempted to describe all the specific entities that may be affected by this action. If you have any questions regarding the applicability of this action to a particular entity, consult the person listed under For Further Information Contact.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

What Action is the Agency Taking?

EPA requests public comment during the next 60 days on a petition (available in docket ID number EPA-HQ-OPP-2007-0944) received from Sinapu, Public Employees for Environmental Responsibility (PEER), Beyond Pesticides, Forest Guardians, Predator Defense, Western Wildlife Conservancy, Sierra Club, The Rewilding Institute, Animal Defense League of Arizona, and Animal Welfare Institute requesting that the Agency cancel all uses of M-44 sodium cyanide capsules and sodium fluoroacetate (compound 1080). The petitioners claim that sodium cyanide M-44 capsules and compound 1080 cannot perform their intended functions without causing unreasonable adverse effects on the environment and posing an imminent hazard. See 136 et seq. of FIFRA. The sodium cyanide and sodium fluoroacetate reregistration eligibility decisions (REDs) are available in the electronic docket at http://www.regulations.gov under docket number EPA-HQ-OPP-2007-0944 or at http://www.epa.gov/pesticides/reregistration/status.htm.

List of Subjects

Environmental protection, pesticides, and predators.

Dated: November 5, 2007.
Steven Bradbury,
Director, Special Review and Reregistration Division, Office of Pesticide Programs.

[FR Doc. E7-22369 Filed 11-15-07; 8:45 am]

BILLING CODE 6560-50-S